DEPARTMENT OF AGRICULTURE

Animal and Plant Health Inspection Service

[Docket No. APHIS-2017-0063]

Addition of Uganda to the List of Regions Affected by Highly Pathogenic Avian Influenza

AGENCY: Animal and Plant Health Inspection Service, USDA.

ACTION: Notice.

SUMMARY: We are advising the public that we are adding Uganda to the list of regions that the Animal and Plant Health Inspection Service considers to be affected by highly pathogenic avian influenza (HPAI). This action follows our imposition of HPAI-related restrictions on avian commodities originating from or transiting Uganda as a result of the confirmation of HPAI in Uganda.

DATES: Uganda was added the list of regions under temporary restrictions on January 14, 2017. Uganda is added to the list of regions considered to be affected by HPAI as of September 21, 2017.

FOR FURTHER INFORMATION CONTACT: Dr. Rebecca Gordon, Import Risk Analyst, National Import Export Services, 920 Main Campus Drive, Suite 200, Raleigh, North Carolina, 27606; phone (919) 855-7741; rebecca.k.gordon@aphis.usda.gov.

SUPPLEMENTARY INFORMATION: The regulations in 9 CFR part 94 (referred to below as the regulations) govern the importation of certain animals and animal products into the United States to prevent the introduction of various animal diseases, including Newcastle disease and highly pathogenic avian influenza (HPAI). The regulations prohibit or restrict the importation of live poultry, poultry meat, and other poultry products from regions where these diseases are considered to exist.

Section 94.6 contains requirements governing the importation into the United States of carcasses, meat, parts or products of carcasses, and eggs (other than hatching eggs) of poultry, game birds, or other birds from regions of the world where HPAI exists or is reasonably believed to exist. HPAI is an extremely infectious and potentially fatal form of avian influenza in birds and poultry that, once established, can spread rapidly from flock to flock. A list of regions that the Animal and Plant Health Inspection Service (APHIS) considers affected with HPAI of any subtype is maintained on the APHIS Web site at https://www.aphis.usda.gov/aphis/ourfocus/animalhealth/animal-and-animal-product-import-information/ct_animal_disease_status.

APHIS receives notice of HPAI outbreaks from veterinary officials of the exporting country, from the World Organization for Animal Health (OIE), or from other sources the Administrator determines to be reliable. On January 15, 2017, the veterinary authorities of Uganda reported to the OIE the confirmation on January 14, 2017, of HPAI H5 in domestic ducks and chickens in Bukakata (Masaka District). The report indicated 30,000 domestic birds were susceptible. The OIE followup report dated January 27, 2017, confirmed the HPAI subtype H5N8.

In response to that outbreak, APHIS placed restrictions on the importation of poultry, commercial birds, other types of birds (research, performing), ratites, any avian hatching eggs, unprocessed avian products and byproducts, and certain fresh poultry products from Uganda to mitigate risk of HPAI introduction into the United States. Those restrictions went into effect on January 14, 2017. With the publication of this notice, we are adding Uganda to the list of regions APHIS considers affected with HPAI of any subtype.

Authority: 7 U.S.C. 450, 7701-7772, 7781-7786, and 8301-8317; 21 U.S.C. 136 and 136a; 31 U.S.C. 9701; 7 CFR 2.22, 2.80, and 371.4.

Done in Washington, DC, this 15th day of September 2017.
Jere L. Dick,
Acting Administrator, Animal and Plant Health Inspection Service.

[FR Doc. 2017-20121 Filed 9-20-17; 8:45 am]

BILLING CODE 3410-34-P